NATIONAL AERONAUTICS AND SPACE ADMINISTRATION

[Notice 09-061]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council's Aeronautics, Audit and Finance, Exploration, Human Capital, Science, and Space Operations Committees. The agendas for the committees include updates from the prior NAC meeting held at NASA Headquarters in April 2009 as well as discussion of potential recommendations. The draft meeting agendas for each committee will be available on the Council's Web site http://www.nasa.gov/nac by June 26, 2009.

DATES: Aeronautics, Tuesday, July 14, 2009, 11:15 a.m.-3:34 p.m., Room 6B42.

Aeronautics, Wednesday, July 15, 2009, 8:30 a.m.-3 p.m., Room 6B42.

Audit and Finance, Wednesday, July 15, 2009, 8:30 a.m.-11 a.m., Room 8D48.

Exploration, Wednesday, July 15, 2009, 8:30 a.m.-12 p.m., Room 7H45.

Human Capital, Wednesday, July 15, 2009, 9 a.m.-2 p.m., Room 5J46.

Science, Tuesday, July 14, 2009, 12:45 p.m.-4:45 p.m., Room 8R40.

Science, Wednesday, July 15, 2009, 8:30 a.m.-3:30 p.m., Room 8R40.

Space Operations, Wednesday, July 15, 2009, 8:30 a.m.-12 p.m., Room 7D61.

ADDRESSES: NASA Headquarters, 300 E Street, SW., Washington, DC 20546.

FOR FURTHER INFORMATION CONTACT: Ms. Marguerite Broadwell, Designated Federal Official, National Aeronautics and Space Administration, Washington, DC 20546, 202/358-1894.

SUPPLEMENTARY INFORMATION: The Committee meetings will be open to the public up to the seating capacity of each room. It is imperative that these meetings be held on this date to accommodate the scheduling priorities of the key participants. Attendees will be requested to comply with NASA security requirements, including the presentation of a valid picture ID, before receiving an access badge. Foreign nationals attending this meeting will be required to provide a copy of their passport, visa, or green card in addition to providing the following information no less than 7 working days prior to the meeting: full name; gender; date/place of birth; citizenship; visa/green card information (number, type, expiration date); passport information (number, country, expiration date); employer/affiliation information (name of institution, address, country, phone); and title/position of attendee. To expedite admittance, attendees with U.S. citizenship can provide identifying information 3 working days in advance by contacting Ms. Marla K. King via e-mail at marla.k.king@nasa.gov or by telephone at (202) 358-1148. Persons with disabilities who require assistance should indicate this.

Kathy Dakon,
Acting Division Director, Advisory Committee Management Division, National Aeronautics and Space Administration.

[FR Doc. E9-15475 Filed 6-29-09; 8:45 am]

BILLING CODE P